FEDERAL COMMUNICATIONS COMMISSION

Notice of Public Information Collection(s) Being Submitted for Review to the Office of Management and Budget

July 26, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 7, 2007. If you anticipate that you will be submitting PRA comments, but find it difficult to do so within the period of time allowed by this notice, you should advise the FCC contact listed below as soon as possible.

ADDRESSES: Direct all PRA comments to Jasmeet K. Seehra, Office of Management and Budget, Room 10236 NEOB, Washington, DC 20503, (202) 395-3123, or via fax at 202-395-5167 or via Internet at Jasmeet_K._Seehra@omb.eop.gov and to Judith-B.Herman@fcc.gov, Federal Communications Commission, Room 1-B441, 445 12th Street, SW., DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0999.

Title: Section 20.19, Hearing Aid-Compatible Mobile Handsets (Hearing Aid Compatibility Act).

Form No.: N/A.

Type of Review: Revision of a currently approved collection.

Respondents: Business or other for-profit.

Number of Respondents: 925 respondents; 1,850 responses.

Estimated Time per Response: 2-160 hours.

Frequency of Response: Annual reporting requirement and third party disclosure requirement.

Obligation to Respond: Mandatory.

Total Annual Burden: 6,050 hours.

Total Annual Cost: N/A.

Privacy Act Impact Assessment: N/A.

Nature and Extent of Confidentiality: Information requested in the annual reports might need to disclose confidential information. However, covered entities would be allowed to request that such materials submitted to the Commission be withheld from public inspection under 47 CFR 0.459.

Needs and Uses: The Commission will submit this information collection to OMB as a revision during this comment period to obtain the full three-year clearance from them. The Commission is reporting a decrease in the number of respondents that are no longer subject to the rules because they have met certain benchmark requirements. The estimate regarding the annual hourly burden requires adjustment because the Commission did not impose the semi-annual reporting requirement on all three groups. Instead, it required wireless service providers and digital wireless handset manufacturers to report every six months for the first three years of implementation, and then annually thereafter through the fifth year of implementation. The Commission expects that each company would utilize staff engineers to draft the reports, and each report would take about two hours to draft. Therefore, the service provider and handset manufacturer reports to an estimated total of four hours per entity for the first three years, and will take two hours per entity in the current (fourth) and the fifth year. Thus, the annual burden for the remaining information collections involving annual reports is 925 (965 entities were reported to OMB in 2004) × 2 hours per entity = 1,850 hours per year. The actual hour burden may be less because the Commission gave these entities the option to submit joint reports, if desired.

The Commission anticipates there may be ongoing modifications to the technical standard. We expect that a subset of approximately 50 of the 965 entities will meet and make modifications to the technical standard for the remaining years. The total estimated annual burden hours for these entities are 4,200 hours. Additionally, we anticipate that 12 principal representatives will account for 1,920 hours (12 entities × 160 per entity = 1,920 hours) and 38 representatives will account for 2,280 hours (38 entities × 60 hours per entity = 2,280). 1,920 + 2,280 hours = 6,050 total annual burden hours is being reported to OMB.

OMB Control Number: 3060-0950.

Title: Bidding Credits for Tribal Lands.

Form No.: N/A.

Type of Review: Extension of a currently approved collection.

Respondents: Business or other for-profit, not-for-profit institutions, and state, local or tribal government.

Number of Respondents: 3 respondents; 3 responses.

Estimated Time per Response: 10-180 hours.

Frequency of Response: On occasion reporting requirement and recordkeeping requirement.

Obligation to Respond: Required to obtain or retain benefits.

Total Annual Burden: 600 hours.

Total Annual Cost: $108,000.

Privacy Act Impact Assessment: N/A.

Nature and Extent of Confidentiality: There is no need for confidentiality.

Needs and Uses: The Commission will submit this information collection to OMB as an extension (no change in reporting or recordkeeping requirements) during this comment period to obtain the full three-year clearance from them. Due to significantly less respondents (−1,310 respondents estimated in 2004) since the last submission to the OMB, the Commission has adjusted the number of respondents, burden hours and annual costs for this information collection. Although there are currently three applicants taking part in the Tribal Land Bidding Credit (TLBC) program, almost all applicants in any auction where TLBCs are available could take part in the program. Because so many could participate, we need to continue this collection.

On June 2000, the Commission adopted rules and policies to encourage the deployment of wireless services to tribal lands. Pursuant to the objectives and requirements of section 309(j)(3) and (4) of the Communications Act of 1934, as amended and in conjunction with the 1990 Census which indicates that communities on tribal lands have historically had less access to telecommunications services than any other segment of the population. The Commission adopted rules and policies to encourage deployment of wireless services to tribal communities.

On March 2003, the Commission adopted rules which extended the time period during which winning bidders can negotiate with relevant tribes to obtain the certification needed to obtain the bidding credit in a particular market from 90 days to 180 days.

On August 2004, the Commission adopted a third final rule which raised the wireline telephone penetration rate at which tribal lands are eligible for a bidding credit from 70 percent or less to 85 percent or less, and increased the amount of the bidding credit available to carriers that pledge to deploy on and serve qualifying tribal lands. A winning bidder seeking a bidding credit to serve a qualifying tribal land within a particular market must meet specific requirements (filing FCC Form 601) and various certifications from tribal government stating specific requirements are met.

The Commission believes that the lack of basic telecommunications services puts affected tribal communities at a social and economic disadvantage. This information collection will be used to ensure that tribal communities within federally-recognized tribal areas have access to wireless telecommunications services equivalent to that of the nation as a whole.

Federal Communications Commission.
Marlene H. Dortch,
Secretary.

[FR Doc. E7-15445 Filed 8-7-07; 8:45 am]

BILLING CODE 6712-01-P